DEPARTMENT OF COMMERCE

Foreign-Trade Zones Board

[B-63-2022]

Foreign-Trade Zone (FTZ) 9; Authorization of Limited Production Activity; Par Hawaii Refining, LLC; (Renewable Fuels); Kapolei, Hawaii

On December 14, 2022, Par Hawaii Refining, LLC submitted a notification of proposed production activity to the FTZ Board for its facility within Subzone 9A, in Kapolei, Hawaii.

The notification was processed in accordance with the regulations of the FTZ Board (15 CFR part 400), including notice in the Federal Register inviting public comment (87 FR 79857-79858, December 28, 2022). On April 13, 2023, the applicant was notified of the FTZ Board's decision that authorized the production activity described in the notification for a period of five years from the date of approval (until April 13, 2028), subject to the FTZ Act and the Board's regulations, including Section 400.14.

Dated: April 13, 2023.
Elizabeth Whiteman,
Acting Executive Secretary.

[FR Doc. 2023-08184 Filed 4-17-23; 8:45 am]

BILLING CODE 3510-DS-P